DEPARTMENT OF THE INTERIOR

Bureau of Land Management

[LLNMP0000 L91410000.XP0000 16X]

Notice of Public Meeting, Pecos District Resource Advisory Council Meeting, New Mexico

AGENCY: Bureau of Land Management, Interior.

ACTION: Notice of public meeting.

SUMMARY: In accordance with the Federal Land Policy and Management Act and the Federal Advisory Committee Act, Bureau of Land Management's (BLM) Pecos District Resource Advisory Council (RAC) will meet as indicated below.

DATES: The RAC will meet on Thursday, October 20, 2016, at BLM Carlsbad Field Office, 620 East Greene Street, Carlsbad, New Mexico, from 9:00 a.m.-3:10 p.m. The public may send written comments to the RAC at the BLM Pecos District Office, 2909 West Second Street, Roswell, New Mexico 88201.

FOR FURTHER INFORMATION CONTACT: Glen Garnand, Pecos District Office, Bureau of Land Management, 2909 West Second Street, Roswell, New Mexico 88201, 575-627-0209. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC advises the Secretary of the Interior, through the BLM, on a variety of planning and management issues associated with public land management in the BLM's Pecos District.

Planned agenda items include: A presentation regarding the Draft Carlsbad Resource Management Plan/Environmental Impact Statement and a proposed fee structure at the Fort Stanton—Snowy River National Conservation Area; a discussion of BLM workload changes due to drop in oil prices; an update on the Planning 2.0 proposed rule; a presentation of BLM's proposed venting and flaring rule; the Seeds of Success intern program; the AFMSS II roll out; and the Rio Bonito proposed project.

All RAC meetings are open to the public. There will be a half-hour public comment period at 9:10 a.m. for any interested members of the public who wish to address the RAC. Depending on the number of persons wishing to speak and time available, the time for individual comments may be limited.

Sally R. Butts,
Acting Deputy State Director, Lands and Resources.

[FR Doc. 2016-22509 Filed 9-19-16; 8:45 am]

BILLING CODE 4310-FB-P